SMALL BUSINESS ADMINISTRATION

[Declaration of Disaster #10003]

State of North Carolina (NC-00001)

Pender County and the contiguous counties of Bladen, Brunswick, Columbus, Duplin, New Hanover, Onslow, and Sampson in the State of North Carolina constitute a disaster area as a result of damages caused by tornadoes created from remnants of Hurricane Charley that occurred August 12-13, 2004. Applications for loans for physical damage as a result of this disaster may be filed until the close of business on February 8, 2005 and for economic injury until the close of business on September 9, 2005 at the address listed below or other locally announced locations:

U.S. Small Business Administration, Disaster Area 1 Office, 360 Rainbow Blvd., South 3rd Floor, Niagara Falls, NY 14303.

The interest rates are:

| Percent
For Physical Damage:
Homeowners With Credit Available Elsewhere: | 6.375
Homeowners Without Credit Available Elsewhere: | 3.187
Businesses With Credit Available Elsewhere: | 5.800
Businesses and Non-Profit Organizations Without Credit Available Elsewhere: | 2.900
Others (Including Non-Profit Organizations) With Credit Available Elsewhere: | 4.875
For Economic Injury:
Businesses and Small Agricultural Cooperatives Without Credit Available Elsewhere: | 2.900

The number assigned to this disaster for physical damage is 10003 and for economic damage is 10004.

(Catalog of Federal Domestic Assistance Program Nos. 59002 and 59008.)

Dated: December 9, 2004.
Hector V. Barreto,
Administrator.

[FR Doc. 04-27651 Filed 12-16-04; 8:45 am]

BILLING CODE 8025-01-P